DEPARTMENT OF HOMELAND SECURITY

U.S. Customs and Border Protection

Automated Commercial Environment (ACE): Change to the Terms and Conditions for Account Access of the ACE Secure Data Portal

AGENCY: U.S. Customs and Border Protection; Department of Homeland Security.

ACTION: General notice.

SUMMARY: On May 16, 2007, U.S. Customs and Border Protection (CBP) published a General Notice in the Federal Register announcing the terms and conditions that must be followed as a condition for access to the Automated Commercial Environment (ACE) Secure Data Portal (ACE Portal). This document revises those terms and conditions regarding the period of Portal inactivity which will result in termination of access to the ACE Portal. This notice provides that if forty-five (45) consecutive days elapse without an Account Owner, Proxy Account Owner, or an Account user accessing the ACE Portal, access to the Portal will be terminated. The time period for allowable Portal activity previously was ninety (90) days. Except for the expansion of the types of Portal Accounts in ACE announced in a General Notice published in the Federal Register on October 18, 2007, all other provisions in the May 16, 2007, Terms and Conditions document remain unchanged and in effect.

DATES: Effective Date: The terms and conditions set forth in this document must be followed as a condition for access to the ACE Portal effective immediately.

ADDRESSES: Comments concerning this notice should be submitted to Byron Kissane via e-mail at stuart.b.kissane@dhs.gov.

FOR FURTHER INFORMATION CONTACT: Byron Kissane at stuart.b.kissane@dhs.gov or (703) 650-3460.

SUPPLEMENTARY INFORMATION:

Background

On May 16, 2007, U.S. Customs and Border Protection (CBP) published a General Notice in the Federal Register (72 FR 27632) announcing a revision of the terms and conditions that must be followed as a condition for access to the ACE Portal. The notice specified that no further action would be required by ACE Portal Trade Account Owners for those ACE Portal Accounts already established with CBP with the proper Account Owner listed.

The principal changes to the ACE terms and conditions included a revised definition of ”Account Owner” to permit either an individual or a legal entity to serve in this capacity, new requirements relating to providing notice to CBP when there has been a material change in the status of the Account and/or Trade Account Owner, and explanatory provisions as to how the information from a particular account may be accessed through the ACE Portal when that account is transferred to a new owner.

Terms and Conditions Document

The purpose of the Terms and Conditions document is to set forth the obligations and responsibilities of those parties accessing an ACE Portal account on behalf of an Account. An ACE Portal account, as described in that document, referred to a party who had volunteered to participate in any ACE test and has an ACE Portal account.

At the time of publication of the Terms and Conditions document in the Federal Register on May 16, 2007, the business categories that could establish ACE Portal accounts consisted of importers, brokers, and carriers. However, CBP published a subsequent General Notice in the Federal Register on October 18, 2007 (72 FR 59105), announcing, among other things, enhanced Portal functionality and an expansion of the business categories that may establish ACE Portal accounts. A complete list of the Portal Account types is set forth below with the requirements that must be met or the information that is required. It is noted that Internet accessibility is a requirement for all categories.

1. Importer:

• Possesses one or more Importer of Record (IR) numbers; and

2. Broker:

• Possesses the ability to make periodic payment via Automated Clearinghouse (ACH) Credit or ACH Debit;

• Possesses the ability to file entry/entry summary via Automated Broker Interface (ABI); and

3. Carrier (All Modes: Air, Rail, and Sea):

• Possesses a SCAC, International Air Transport Association (IATA), or International Civil Aviation Organization (ICAO) designator (as applicable); and

• Method of transportation (i.e., air, rail, vessel).

4. Cartman or Lighterman:

• Employer Identification Number (EIN) or Social Security Number (SSN); and

• CBP issued license number.

5. Driver/Crew:

• Drivers/Crew who are interested in having their information entered into ACE are encouraged to contact: (1) A truck carrier with Electronic Data Interchange (EDI) or an ACE Portal Account; or (2) a third party provider (this includes importers, brokers, and service centers) with an ACE Portal Account.

• Drivers/Crew who elect to have their own ACE Portal Account with a Driver/Crew view will be required to submit the following information:

a. Name;

b. Date of Birth; and

c. Commercial Driver's License (CDL).

6. Bonded Warehouse, Container Freight Station (CFS), and Container Examination Station (CES) Facility Operator:

• EIN or SSN;

• Facilities Information and Resources Management System (FIRMS) code; and

• Bond number.

7. Filer:

• Filer Code.

8. Foreign Trade Zone (FTZ) Operator:

• EIN or SSN;

• FIRMS code;

• Zone Number;

• Sub-zone Number (if applicable);

• Site Number; and

• Bond Number.

9. Service Provider:

• Software Vendor: Filer Code and/or SCAC;

• Service Bureau/Center: Filer code and/or SCAC;

• Port Authority: SCAC;

• Preparer: SCAC; and

• Surety agent: Filer code.

10. Surety:

• Surety Code; and

• EIN.

Security Policy

Provision V of the May 16, 2007, Terms and Conditions document addresses Failure to Access the Portal. Specifically, this provision states that failure of an Account Owner to access the ACE Portal for a period of ninety (90) days consecutively will result in the termination of access to the ACE Portal. Access may be restored by calling the Help Desk or by following the “forgot your password” prompt found on the ACE Portal log-in page. The failure of a Proxy Account Owner or an Account User to access the ACE Portal for a period of ninety (90) days consecutively will result in the termination of access to the ACE Portal for the Proxy Account Owner or Account User. Access may only be restored upon re-authorization by the Account Owner.

Change in Security Policy

To meet security guidelines established by the Department of Homeland Security, CBP is implementing a new policy as it relates to account access that changes the period of allowable inactivity from ninety (90) days to forty-five (45) days. As such, if forty-five (45) consecutive days elapse without an Account owner accessing the ACE Portal, access to the Portal will be terminated. Access may only be restored by calling the Help Desk. Similarly, if forty-five (45) consecutive days elapse without a Proxy Account Owner or an Account User accessing the ACE portal, access to the Portal will also be terminated for the Proxy Account Owner or Account User. Access may only be restored by calling the Help Desk. The Account Owner may no longer re-authorize access for the Proxy Account Owner or the Account User.

Any party seeking access to the ACE Portal will be required to accept those terms and conditions as set forth on the ACE Portal screen and in this General Notice.

All other provisions in the May 16, 2007, Terms and Conditions document not specifically mentioned as being revised, remain unchanged and in effect.

Dated: June 30, 2008.
Daniel Baldwin,
Assistant Commissioner, Office of International Trade.

[FR Doc. E8-15249 Filed 7-3-08; 8:45 am]

BILLING CODE 9111-14-P